FEDERAL COMMUNICATIONS COMMISSION

47 CFR Part 73

[DA 01-2782; MM Docket No. 00-129; RM-9909 & RM-10017]

Radio Broadcasting Services; Moberly, Malta Bend, Chillicothe, Lee's Summit, La Monte, Warsaw, Nevada, Maryville & Madison, MO, Topeka, Junction City, Humboldt, Marysville & Burlington, KS, & Auburn, NE

AGENCY: Federal Communications Commission.

ACTION: Final rule.

SUMMARY: In response to a petition filed by Best Broadcasting, Inc., the Commission issued a Notice of Proposed Rule Making proposing the substitution of Channel 247C2 for Channel 247C3 at Moberly, Missouri, and modification of the license for Station KCSX accordingly, with additional substitutions at Malta Bend, MO and Chillicothe, MO. See 65 FR 45745, July 25, 2000. In response to a counterproposal filed by Best Broadcasting, Inc. and First Broadcasting Company, this document substitutes Channel 247C1 for Channel 247C3 at Moberly, Missouri, reallots Channel 247C1 from Moberly to Lee's Summit, MO and modifies the authorization for Station KCSX to specify operation at Lee's Summit on Channel 247C1. The coordinates for Channel 247C1 at Lee's Summit are 39-04-20 and 94-35-45. To accommodate the allotment at Lee's Summit, we shall make the following changes: substitute Channel 233C for Channel 247C, Topeka, Kansas (39-00-19 & 96-02-58), substitute Channel 248C1 for Channel 233C1 at Junction City, Kansas (39-00-53 & 96-52-15), substitute Channel 237C3 for Channel 232C3 at Humboldt, Kansas (37-43-21 & 95-33-41) , substitute Channel 249A for Channel 237A at Burlington, Kansas (39-10-08 & 95-39-07), substitute Channel 276C3 for Channel 234C3 at Auburn, Nebraska (40-27-57 & 95-45-38),¹ substitute Channel 238C3 for Channel 276C3 at Marysville, Kansas (39-56-06 & 94-47-33), substitute Channel 280C3 for Channel 243C3 at Malta Bend, Missouri (39-21-59 & 93-24-12), substitute Channel 253A for Channel 280C3 at Chillicothe, Missouri (39-43-40 & 93-35-43), substitute Channel 249C2 for Channel 246C3 at La Monte, Missouri (38-48-23 & 93-09-08), substitute Channel 246A for Channel 249A at Warsaw, Missouri (38-20-41 & 93-23-10), substitute Channel 248A for Channel 249A at Nevada, Missouri (37-52-06 & 94-20-01). We shall also allot Channel 247C3 at Madison, Missouri, as a first local service at coordinates 39-24-37 and 92-10-58. The issue of opening the allotment at Madison for auction will be addressed by the Commission in a subsequent order.

¹ The authorization for Station KNCY-FM was amended to specify operation on Channel 234C3 in lieu of Channel 288A in a one-step application (BPH-19990816IE). We will take this opportunity to correct the FM Table of Allotments.

DATES: Effective January 14, 2002.

FOR FURTHER INFORMATION CONTACT: Kathleen Scheuerle, Mass Media Bureau, (202) 418-2180.

SUPPLEMENTARY INFORMATION: This is a summary of the Commission's Report and Order, MM Docket No. 00-129, adopted November 21, 2001, and released November 30, 2001. The full text of this Commission decision is available for inspection and copying during regular business hours in the FCC Reference Information Center, Portals II, 445 12th Street, SW, Room CY-A257, Washington, DC, 20554. This document may also be purchased from the Commission's duplicating contractor, Qualex International, Portals II, 445 12th Street, SW, Room CY-B402, Washington, DC, 20554, (202) 863-2893, facsimile (202) 863-2898, or via e-mail qualexint@aol.com.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Missouri, is amended by removing Channel 247C3 at Moberly and adding Lee's Summit, Channel 247C1; by removing Channel 248C3 and adding Channel 280C3 at Malta Bend; by removing Channel 280C3 and adding Channel 253A at Chillicothe; by removing Channel 246C3 and adding Channel 249C2 at La Monte; by removing Channel 249A and adding Channel 246A at Warsaw; by removing Channel 249A and adding Channel 248A at Nevada; and by adding Madison, Channel 247C3.

3. Section 73.202(b), the Table of FM Allotments under Kansas, is amended by removing Channel 247C and adding Channel 233C at Topeka; by removing Channel 233C1 and adding Channel 248C1 at Junction City; by removing Channel 232C3 and adding Channel 237C3 at Humboldt; by removing Channel 237A and adding Channel 249A at Burlington; and by removing Channel 276C3 and adding Channel 238C3 at Marysville.

4. Section 73.202(b), the Table of FM Allotments under Nebraska, is amended by removing Channel 288A and adding Channel 276C3 at Auburn.

Federal Communications Commission.
John A. Karousos,
Chief, Allocations Branch, Policy and Rules Division, Mass Media Bureau.

[FR Doc. 01-30870 Filed 12-13-01; 8:45 am]

BILLING CODE 6712-01-P